DEPARTMENT OF COMMERCE

Foreign-Trade Zones Board

[B-19-2023]

Foreign-Trade Zone (FTZ) 138; Authorization of Production Activity; Intel Corporation; (Semiconductor Products); New Albany, Ohio

On March 2, 2023, Intel Corporation submitted a notification of proposed production activity to the FTZ Board for its facility within Subzone 138I in New Albany, Ohio.

The notification was processed in accordance with the regulations of the FTZ Board (15 CFR part 400), including notice in the Federal Register inviting public comment (88 FR 14978, March 10, 2023). On May 4, 2023, the applicant amended its request to remove seven foreign-status components from the production notification: dimethyl sulfoxide based cleaning solvent; propylene glycol monomethyl ether based solvent; propylene glycol monomethyl ether acetate; ethanolamine based wafer cleaning solution; triethanolamine based solution; silicon tetrachloride; and, butyl acetate.

On June 30, 2023, the applicant was notified of the FTZ Board's decision that no further review of the activity is warranted at this time. The production activity described in the notification was authorized, with the exception of the seven withdrawn foreign-status components, subject to the FTZ Act and the FTZ Board's regulations, including section 400.14.

Dated: June 30, 2023.
Elizabeth Whiteman,
Executive Secretary.

[FR Doc. 2023-14364 Filed 7-6-23; 8:45 am]

BILLING CODE 3510-DS-P